DEPARTMENT OF JUSTICE

Notice of Lodging of Proposed Consent Decree Under the Clean Water Act

On August 9, 2019, the Department of Justice lodged a proposed Consent Decree with the United States District Court for the District of Massachusetts in the lawsuit entitled United States of America v. Rafael et al., Civil Action No. 1:19-cv-10617.

The Complaint in this Clean Water Act case was filed against the defendants on April 2, 2019. The Complaint alleges that the defendants, New Bedford, Massachusetts-based Vila Nova do Corvo II, Inc., company managers Carlos Rafael and Stephanie Rafael DeMello, and vessel captain Carlos Pereira, are civilly liable for violations of Section 311 of the Clean Water Act, 33 U.S.C. 1321. The Complaint alleges that the company and individuals are liable for violations related to the commercial fishing vessel Vila Nova do Corvo II's operations in coastal waters off of southeastern New England. The Complaint addresses discharges of oily bilge waste and used oil filters from the vessel while at sea harvesting scallops. The Complaint also includes Clean Water Act claims for violations of the Coast Guard's pollution control regulations related to the defendants' operation of the vessel. The violations were discovered by the Coast Guard during boarding operations.

Under the proposed Consent Decree, the defendants will pay a total of $511,000 as civil penalties and perform corrective and compliance assurance measures. The defendants will be required, among other things, to repair the vessel to reduce the generation of oily bilge water, operate within the vessel's capacity to retain oily bilge for the full length of planned voyages, provide crew and management training on the proper handling of oily wastes, document all oil and oily waste transfers on and off of the vessel, including documenting proper disposal of engine room bilge water at a shore reception facility, and submit compliance reports.

The penalties paid in this case will be deposited in the federal Oil Spill Liability Trust Fund managed by the National Pollution Funds Center. The Oil Spill Liability Trust Fund is used to pay for federal response activities and to compensate for damages when there is a discharge or substantial threat of discharge of oil or hazardous substances to waters of the United States or adjoining shorelines.

The publication of this notice opens a period for public comment on the proposed Consent Decree. Comments should be addressed to the Assistant Attorney General, Environment and Natural Resources Division, and should refer to United States of America v. Rafael et al., D.J. Ref. No. 90-5-1-1-12051. All comments must be submitted no later than thirty (30) days after the publication date of this notice. Comments may be submitted by either email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $11.75 (25 cents per page reproduction cost) payable to the United States Treasury.

Thomas Carroll,
Assistant Section Chief, Environmental Enforcement Section, Environment and Natural Resources Division.

[FR Doc. 2019-17954 Filed 8-20-19; 8:45 am]

BILLING CODE 4410-15-P